DEPARTMENT OF LABOR

Employment and Training Administration

[TA-W-72,749]

Norforge and Machining, Inc., Bushnell, IL; Notice of Termination of Investigation

Pursuant to Section 223 of the Trade Act of 1974, as amended, an investigation was initiated in response to a petition filed on November 3, 2009 by the company official on behalf of workers of Norforge and Machining, Inc., Bushnell, Illinois.

The petitioner has requested that the petition be withdrawn. Consequently, the investigation has been terminated.

Signed at Washington, DC, this 16th day of February 2009.
Elliott S. Kushner,
Certifying Officer, Division of Trade Adjustment Assistance.

[FR Doc. 2010-5358 Filed 3-11-10; 8:45 am]

BILLING CODE 4510-FN-P